DEPARTMENT OF AGRICULTURE

Food and Nutrition Service

Agency Information Collection Activities: Proposed Collection; Comment Request—USDA National Hunger Clearinghouse Database Forms FNS 543 and FNS 543-A

AGENCY: Food and Nutrition Service (FNS), USDA.

ACTION: Notice.

SUMMARY: In accordance with the Paperwork Reduction Act of 1995, this notice invites the general public and other public agencies to comment on this proposed information collection. This is a revision of a currently approved collection for the purpose of collecting information from organizations fighting hunger and poverty.

DATES: Written comments must be received on or before July 31, 2015.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Tony Craddock, Jr., Food and Nutrition Service, U.S. Department of Agriculture, 3101 Park Center Drive, Room 941, Alexandria, VA 22302. Comments may also be submitted via email to Tony Craddock, Jr. at tony.craddock@fns.usda.gov. Comments will also be accepted through the Federal eRulemaking Portal. Go to http://www.regulations.gov and follow the online instructions for submitting comments electronically. Comments will also be accepted through the Federal eRulemaking Portal. Go to http://www.regulations.gov, and follow the online instructions for submitting comments electronically.

All written comments will be available for public inspection at the office of the Food and Nutrition Service located at 3101 Park Center Drive, Room 941, Alexandria, Virginia 22302 during regular business hours (8:30 a.m. to 5:00 p.m. Monday through Friday).

All responses to this notice will be summarized and included in the request for Office of Management and Budget approval. All comments will be a matter of public record.

FOR FURTHER INFORMATION CONTACT: Requests for additional information or copies of this information collection should be directed to Tony Craddock, Jr. at 703-605-0037.

SUPPLEMENTARY INFORMATION:

Title: USDA National Hunger Clearinghouse Database Forms.

Form Number: FNS-543 and FNS 543-A.

OMB Number: 0584-0474.

Expiration Date: 09/30/2015.

Type of Request: Revision of a currently approved information collection.

Abstract: Section 26 of the Richard B. Russell National School Lunch Act (42 U.S. C. 1769g) (the Act), which was added to the Act by section 123 of Public Law 103-448 on November 2, 1994, mandated that FNS enter into a contract with a non-governmental organization to establish and maintain an information clearinghouse (named “USDA National Hunger Clearinghouse” or “Clearinghouse”) for groups that assist low-income individuals or communities regarding nutrition assistance programs or other assistance. Section 26(d) of this Act was amended again by Public Law 113-79 on February 7, 2014, to extend funding for the Clearinghouse through fiscal year 2015 for $250,000. FNS awarded this contract to the hunger advocacy organization New York City Coalition Against Hunger (NYCCAH) on October 1, 2014.

The Clearinghouse includes a database of non-governmental, grassroots organizations in the areas of hunger and nutrition, along with a mailing list to communicate with these organizations. These organizations enter their information into the database, and Clearinghouse staff use that information to provide the public with information about where they can get food assistance. The database form (FNS-543) will be completed online at www.nhc.fns.usda.gov and physical versions of the form can still be completed and emailed to tony.craddock@fns.usda.gov. State agencies use the FNS-543A form to voluntarily collect information about summer meal sites. The FNS-543A collects site name, location and operating details such as dates and times of the day that the site is in operation. FNS-543A is part of the information collection because summer meal site information is part of the National Hunger Clearinghouse.

Affected Public: Business or Other For-Profits, and Not For Profit (FNS 543) and State Agencies (FNS 543-A). Respondent group types for FNS-543 are identified as Food banks. Most of these groups are organizations providing nutrition assistance services to the public. Respondent groups identified for FNS-543A include all 55 State Agencies.

As of February 2015, there were 6,011 registered organizations in the National Hunger Clearinghouse. FNS estimates approximately 600 new business registrants annually. Each respondent is expected to only participate in one survey per registration.

Reporting Burden for FNS-543

Estimated Number of Respondents: 600.

Estimated Number of Responses per Respondent: 1.

Estimated Total Annual Responses: 600.

Estimated Time per Response: 5 minutes (0.0833 hours).

Estimated Total Annual Burden on Respondents: 49.98 hours rounded up to 50 hours.

Reporting Burden for FNS-543-A.

Estimated Number of Respondents: 55.

Estimated Number of Responses per Respondent: 1.

Estimated Total Annual Responses: 55.

Estimated Time per Response: 1.05 hours.

Estimated Total Annual Burden on Respondents: 57.75 hours rounded up to 58 hours.

The total reporting burden for this information collection is 108 total annual burden hours and 655 total annual responses.

See the table below for estimated total annual burden for each type of respondent and each FNS form.

FNS-543
Respondent | Estimated number of respondents | Responses annually per respondent | Total annual responses | Estimated average number of hours per response | Estimated total hours
Business Reporting Burden
Food Banks | 300 | 1 | 300 | 0.0833 | 24.99
Business and Other For Profit | 100 | 1 | 100 | 0.0833 | 8.33
Not For Profit | 200 | 1 | 200 | 0.0833 | 16.66
Total Reporting Burden | 600 |  | 600 |  | 49.98

FNS-543A
Respondent | Estimated number of respondents | Responses annually per respondent | Total annual responses | Estimated average number of hours per response | Estimated total hours
State Agencies Reporting Burden
State agencies | 55 | 1 | 55 | 1.05 | 57.75
Total Reporting Burden | 55 |  | 55 |  | 57.75

Dated: May 19, 2015.
Jeffrey J. Tribiano,
Acting Administrator, Food and Nutrition Service.

Attached:

Appendix A: USDA National Hunger Clearinghouse Database Form FNS543 (paper)

Appendix B: USDA National Hunger Clearinghouse Database Form FNS543 (online)

Appendix C: USDA National Hunger Clearinghouse Database Form FNS543-A

BILLING CODE 3410-30-P

[FR Doc. 2015-13062 Filed 5-29-15; 8:45 am]

BILLING CODE 3410-30-C